DEPARTMENT OF AGRICULTURE

Natural Resources Conservation Service

[Docket ID: NRCS-2022-0006]

Urban Agriculture and Innovative Production Advisory Committee Virtual Meeting

AGENCY: Natural Resources Conservation Service (NRCS), United States Department of Agriculture (USDA).

ACTION: Notice of meeting.

SUMMARY: The Natural Resources Conservation Service (NRCS) is holding its second public meeting of the Urban Agriculture and Innovative Production Advisory Committee (UAIPAC). UAIPAC was established to advise the Secretary on the development of policies and outreach relating to urban, indoor, and other emerging agricultural production practices, and other matters. UAIPAC will also develop recommendations and advise on policies, initiatives, and outreach administered by the Office of Urban Agriculture and Innovative Production (OUAIP); evaluate ongoing research and extension activities related to urban, indoor, and other innovative agricultural practices; identify new and existing barriers to successful urban, indoor, and other emerging agricultural production practices; and provide additional assistance and advice to OUAIP as appropriate.

DATES:

Virtual Meeting: UAIPAC will meet via webinar on Friday, August 5, 2022, from 1:00 p.m. to 3:00 p.m. Eastern Time (ET).

Registration: To attend the meeting, you can register by Thursday, August 4, 2022.

Comments: The deadline to submit written comments for the UAIPAC to review before the meeting is Friday, July 29, 2022.

ADDRESSES:

Comments: We invite you to submit comments for the UAIPAC meeting. You may submit comments through the:

• Federal eRulemaking Portal: go to https://www.regulations.gov docket ID NRCS-2022-0006 and follow the instructions for submitting comments.

UAIPAC Website: The meeting webinar can be accessed via either the internet or phone; detailed access information will be available on the UAIPAC website prior to the meeting: http://www.farmers.gov/urban.

Registration: The public can register to attend the UAIPAC meeting at: https://www.zoomgov.com/webinar/register/WN_kYuDvpVLRlCXONt1bQedMA.

Comments will be available for viewing online at www.regulations.gov. Comments received will be posted without change, including any personal information provided.

FOR FURTHER INFORMATION CONTACT: Tammy Willis; telephone: (315) 456-9024; email: UrbanAgricultureFederalAdvisoryCommittee@usda.gov.

SUPPLEMENTARY INFORMATION:

UAIPAC Purpose

Section 222 of the Department of Agriculture Reorganization Act of 1994, as amended by section 12302 of the 2018 Farm Bill (Pub. L. 115-334), directs the Secretary of the USDA to establish an “Urban Agriculture and Innovative Production Advisory Committee” to advise the Secretary on any aspect of section 222, including the development of policies and outreach relating to urban, indoor, and other emerging agricultural production practices.

In addition, UAIPAC will advise the Director of the OUAIP on policies, initiatives, and outreach administered by that office. UAIPAC will evaluate and review ongoing research and extension activities relating to urban, indoor, and other innovative agricultural practices; identify new and existing barriers to successful urban, indoor, and other emerging agricultural production practices; and provide additional assistance and provide advice to the Director as appropriate.

UAIPAC Webinar

The UAIPAC will hold the second public meeting on Friday, August 5, 2022. The virtual meeting will be open to the public and will provide an opportunity for stakeholders to listen to the UAIPAC's current activities.

The agenda will include, but is not limited to:

• Discussions of the potential UAIPAC subcommittees and their focus priorities; the USDA's Equity Commission Designated Federal Officer will share an overview of the Equity Commission's priorities; and

• The Farm Service Agency (FSA) will give an operational overview of the 17 Urban County Committees; and OUAIP's staff will give an overview of new urban conservation practices.

Please check the UAIPAC website for the agenda 24 to 48 hours prior to Friday, August 5, 2022, via http://www.farmers.gov/urban.

Submitting Written Comments

Comments should focus on specific topics pertaining to urban agriculture, innovative production, and associated USDA programs and services. Written public comments will be accepted on or before 11:59 p.m. ET on Friday, July 29, 2022, via the Federal eRulemaking Portal: go to https://www.regulation.gov and follow the instructions for submitting comments. UAIPAC will not have adequate time to consider any comments submitted after Friday, July 29, 2022, prior to the meeting.

In addition, outside of this meeting we welcome your comments to the UAIPAC email box at UrbanAgricultureFederalAdvisoryCommittee@usda.gov at any time.

Meeting Accommodation Request

Instructions for registering for this meeting can be obtained by contacting Ms. Willis by or before the deadline.

If you are a person requiring reasonable accommodation, please make requests in advance for sign language interpretation, assistive listening devices, or other reasonable accommodation, to Ms. Willis as identified above. Determinations for reasonable accommodation will be made on a case-by-case basis.

Date: June 27, 2022.
Cikena Reid,
Committee Management Officer, USDA.

[FR Doc. 2022-14039 Filed 6-29-22; 8:45 am]

BILLING CODE 3410-16-P